DEPARTMENT OF ENERGY

Federal Energy Regulatory Commission

[Docket No. CP07-25-000]

Questar Pipeline Company; Notice of Filing

December 1, 2006.

Take notice that on November 21, 2006, Questar Pipeline Company (Questar), 180 East 100 South, Salt Lake City, Utah 84111, filed an abbreviated application pursuant to Section 7(c) of the Natural Gas Act (NGA) and Part 157 of the Commission's Rules and Regulations, seeking authority to expand its interstate natural-gas transmission system by constructing and operating 58.6 miles of 24-inch diameter pipeline and related facilities and modifying two existing compressor stations, known as the Southern System Expansion Project II (SSXP II), located in Carbon, Duchesne and Uintah Counties, Utah. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

The proposed project will enable Questar to transport up to an additional 175,000 decatherms of natural gas per day (Dth/d) from various receipt points on Questar's southern interstate transmission system to Questar's Main Line No. 104 (ML 104) which is interconnected with Kern River Gas Transmission Company (Kern River) at Goshen, Utah. Questar has negotiated transportation service agreements for firm transportation service with seven parties for the entire 175,000 Dth/d with terms varying between 10 and 11½ years. Questar states that the total estimated cost of the proposed project is $107,693,000 and the seven contracting shippers have agreed to pay the existing Southern System Expansion Project monthly reservation charge of $7.82712/Dth per month. Questar proposes to complete the proposed project and makes it available for service by November 1, 2007.

Any questions regarding the application are to be directed to L. Bradley Burton, Manager, Federal Regulatory Affairs, Questar Pipeline Company, 180 East 100 South, P.O. Box 45360, Salt Lake City, Utah 84145-0360; phone number (801) 324-2459.

On March 17, 2006, the Commission staff granted Questar's request to utilize the National Environmental Policy Act (NEPA) Pre-Filing Process and assigned Docket No. PF06-18-000 to staff activities involving SSXP II. Now, as of the filing of this application on November 21, 2006, the NEPA Pre-Filing Process for this project has ended. From this time forward, this proceeding will be conducted in Docket No. CP07-25-000, as noted in the caption of this Notice.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF06-18-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

Motions to intervene, protests and comments may be filed electronically via the Internet in lieu of paper, see, 18 CFR 385.2001(a)(1)(iii) and the instructions on the Commission's Web site under the “e-Filing” link. The Commission strongly encourages electronic filings.

Comment Date: December 22, 2006.

Magalie R. Salas,
Secretary.

[FR Doc. E6-20817 Filed 12-7-06; 8:45 am]

BILLING CODE 6717-01-P